DEPARTMENT OF HEALTH AND HUMAN SERVICES

Centers for Disease Control and Prevention

[60Day-22-22BY; Docket No. CDC-2022-0008]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Importation Regulations (42 CFR 71 subpart F), which specifies the requirements for importing animals or animal products that are regulated by CDC into the United States.

DATES: CDC must receive written comments on or before March 25, 2022.

ADDRESSES: You may submit comments, identified by Docket No. CDC-2022-0008 by any of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Importation Regulations (42 CFR 71 Subpart F)—New—National Center for Emerging and Zoonotic Infectious Diseases (NCEZID), Centers for Disease Control and Prevention (CDC).

Background and Brief Description

This is a request for a new information collection to consolidate forms and information collections related to the importation of animals, animal products, and human remains into one information collection. This information collection was previously part of three separate, OMB-approved information collections: (1) 0920-1034 (expires 3/31/2022), (2) 0920-0263 (expires 9/30/2023), and (3) 0920-0199 (expires 8/31/2024). CDC is requesting a three-year OMB clearance for this new, combined information collection.

Section 361 of the Public Health Service Act (PHSA) (42 U.S.C. 264) authorizes the Secretary of Health and Human Services to make and enforce regulations necessary to prevent the introduction, transmission or spread of communicable diseases from foreign countries into the United States. The Statute, and the existing regulations governing foreign quarantine activities (42 CFR 71), authorize quarantine officers and other personnel to inspect and undertake necessary control measures with respect to conveyances, persons, and shipments of animals and etiologic agents in order to protect the public's health.

CDC regulations govern the importation of animals and animal products capable of causing human disease. Animals that are regulated by CDC are dogs, cats, turtles, snakes, lizards, non-human primates (NHP), civets, African rodents, and bats. CDC controls the importation of these animals to ensure that these animals, or animal products, being imported into the United States meet CDC regulations. CDC does this through a permitting process for certain animals.

On June 16, 2021 CDC published a Federal Register Notice informing the public about a temporary suspension of dogs entering the United States from high-risk rabies countries. The canine rabies virus variant (CRVV) was declared eliminated in the United States in 2007. The importation of just one dog infected with CRVV risks re-introduction of the virus into the United States resulting in a potential public health risk with consequent monetary cost and potential loss of human and animal life. Since 2015 there have been four known rabid dogs imported into the United States.

During the suspension period, CDC will issue permits for importers with dogs who have been in a high-risk CRVV country within the last six months and do not have a current, valid U.S.-issued rabies vaccination certificate. Only importers who are permanently relocating to the United States, are a US government employee traveling on official orders, are an owner of a service dog that is trained to assist them with a disability, are an individual importing dogs for science, education, exhibition, or law enforcement purposes, or people who traveled with their dog before July 31, 2021 are eligible to apply for a permit. Dogs from CRVV-free or low risk countries and dogs with valid U.S.-issued rabies vaccination certificates that are microchipped, healthy, and at least six months of age do not require a permit. The current permit application to import a dog is under collection 0920-1034. When a dog or cat arrives at an airport and is sick or dead, importers are required to notify CDC. There is no form for this notification.

Other animals that require a permit, and are included in this information collection are NHPs, which can carry of number of diseases that can cause severe infections in people. NHPs may not be imported as pets and may only be imported for bona fide scientific, educational, or exhibition purposes, as defined in the regulations. Forms for the importation of NHPs are currently under information collection 0920-0263. These forms will move into this new information collection to consolidate all forms related to the importation of animals or animal products into one collection.

A new form to request a permit to import a regulated animal that is neither a dog nor an NHP (e.g., turtles, African rodents, civets) is included in this information collection. It also incorporates the addition of bats, which is currently approved under OMB control number 0920-0199.

Regarding human remains, the Division of Global Migration and Quarantine (DGMQ) works with the Division of Select Agents and Toxins (DSAT) on the importation for human remains. DGMQ requests death certificates from those wishing to import remains and then determines if the importer will need a permit, which is issued by DSAT and will remain in 0920-0199.

Lastly, people importing animal products must make a statement or provide documentation demonstrating that the animal product is not infectious.

CDC requests approval for an estimated 60,215 annual burden hours. There are no costs to respondents other than their time to participate.

Estimated Annualized Burden Hours
Type of respondents | Form name | Number of respondents | Number of responses per respondent | Average burden per response (in hours) | Total burden hours
Dog Importers (42 CFR 71.51(c)(2), (d)) | Dog Permit Application Form | 60,000 | 1 | 60/60 | 60,000
NHP Importers (42 CFR 71.53) | NHP Shipment Arrival Notification Form | 120 | 1 | 15/60 | 30
First Time NHP Importer (42 CFR 71.53) | NHP Importer Form | 15 | 1 | 120/60 | 30
Regulated Animal Importer (42 CFR 71) | Other animal import form | 2 | 1 | 30/60 | 1
Dog and Cat Importers (42 CFR 71.51(b)(3)) | Record of sickness or death | 43 | 1 | 60/60 | 43
Human Remains Importers (42 CFR 71.55, 42 CFR 71.32) | Provide death certificate | 50 | 1 | 15/60 | 13
Importer of animal products (42 CFR 71.32) | Statement or documentation of non-infectiousness | 391 | 1 | 15/60 | 98
Total |  |  |  |  | 60,215

Jeffrey M. Zirger,
Lead, Information Collection Review Office, Office of Scientific Integrity, Office of Science, Centers for Disease Control and Prevention.

[FR Doc. 2022-01260 Filed 1-21-22; 8:45 am]

BILLING CODE 4163-18-P